DEPARTMENT OF AGRICULTURE

Food and Nutrition Service

7 CFR Parts 210, 215, 220, and 226

[FNS-2020-0037]

RIN 0584-AE84

Child Nutrition Programs: Rescission of Milk, Whole Grains, and Sodium Flexibilities: Notice of Vacatur

AGENCY: Food and Nutrition Service (FNS), USDA.

ACTION: Final rule.

SUMMARY: This final rule removes from the Code of Federal Regulations the final rule published on December 12, 2018, titled, “Child Nutrition Programs: Flexibilities for Milk, Whole Grains, and Sodium Requirements.” This action responds to a decision of the U.S. District Court for the District of Maryland that vacated the rule.

DATES: The action is effective November 24, 2020. However, the court order had legal effect immediately upon its filing on April 13, 2020.

FOR FURTHER INFORMATION CONTACT: Tina Namian, Chief, School Programs Branch, Policy and Program Development Division, Food and Nutrition Service, telephone: 703-305-2590.

SUPPLEMENTARY INFORMATION: On December 12, 2018, the Food and Nutrition Service (FNS) published a final rule titled, “Child Nutrition Programs: Flexibilities for Milk, Whole Grains, and Sodium Requirements,” (2018 Final Rule) (83 FR 63775). The 2018 Final Rule codified three menu planning flexibilities, with some extensions, temporarily established by the interim final rule of the same title published November 30, 2017, (82 FR 56703). First, the 2018 Final Rule broadened the milk options in the National School Lunch Program and School Breakfast Program by allowing local operators to permanently offer flavored, low-fat milk. For consistency across nutrition programs, it also allowed flavored, low-fat milk in the Special Milk Program for Children and in the Child and Adult Care Food Program for participants ages 6 and older. Second, the 2018 Final Rule allowed for half of the weekly grains in the school lunch and breakfast menus to be whole grain-rich, thus ending the need for an exemption process to serve enriched grains. Third, it provided schools in the lunch and breakfast programs more time for gradual sodium reduction by retaining Sodium Target 1 through the end of school year (SY) 2023-2024, continuing to Target 2 in SY 2024-2025, and eliminating the Final Target that would have gone into effect in SY 2022-2023. By codifying those flexibilities, USDA acknowledged the persistent menu planning challenges experienced by some schools, and affirmed its commitment to giving schools more control over food service decisions and greater ability to offer wholesome and appealing meals that reflect local preferences.

In an April 13, 2020, decision in the Center for Science in the Public Interest et al., v. Sonny Perdue, Secretary, et al., No. 8:19-cv-01004-GLS (D. Md. 2019), the U.S. District Court for the District of Maryland found a procedural error with the promulgation of the 2018 Final Rule, and therefore, vacated the regulation.

This rule is not subject to the requirement to provide notice and an opportunity for public comment because it falls under the good cause exception at 5 U.S.C. 553(b)(B). The good cause exception is satisfied when notice and comment is “impracticable, unnecessary, or contrary to the public interest.” Id. This rule is an administrative step that implements the court's order vacating the 2018 Final Rule. Additionally, because this rule implements a court order already in effect, FNS has good cause to waive the 30-day effective date under 5 U.S.C. 553(d).

List of Subjects

7 CFR Part 210

Grant programs—education, Grant programs—health, Infants and children, Nutrition, Penalties, Reporting and recordkeeping requirements, School breakfast and lunch programs, Surplus agricultural commodities.

7 CFR Part 215

Food assistance programs, Grant programs—education, Grant program—health, Infants and children, Milk, Reporting and recordkeeping requirements.

7 CFR Part 220

Grant programs—education, Grant programs—health, Infants and children, Nutrition, Reporting and recordkeeping requirements, School breakfast and lunch programs.

7 CFR Part 226

Accounting, Aged, Day care, Food assistance programs, Grant programs, Grant programs—health, American Indians, Individuals with disabilities, Infants and children, Intergovernmental relations, Loan programs, Reporting and recordkeeping requirements, Surplus agricultural commodities.

Accordingly, 7 CFR parts 210, 215, 220, and 226 are amended as follows:

PART 210—NATIONAL SCHOOL LUNCH PROGRAM

1. The authority citation for part 210 continues to read as follows:

Authority: 42 U.S.C. 1751-1760, 1779.

2. In § 210.10, revise the table in paragraph (c) introductory text and paragraphs (c)(2(iv)(B), (d)(l)(i), and (f)(3) to read as follows:

§ 210.10 Meal requirements for lunches and requirements for afterschool snacks.

* * * * *

(c) * * *

Food components | Lunch meal pattern: Grades K-5 | Lunch meal pattern: Grades 6-8 | Lunch meal pattern: Grades 9-12
| Amount of food a per week (minimum per day)
Fruits (cups) b | 2½ (½) | 2½ (½) | 5 (1)
Vegetables (cups) b | 3¾ (¾) | 3¾ (¾) | 5 (1)
Dark green c | ½ | ½ | ½
Red/Orange c | ¾ | ¾ | 1¼
Beans and peas (legumes) c | ½ | ½ | ½
Starchy c | ½ | ½ | ½
Other c d | ½ | ½ | ¾
Additional Vegetables to Reach Total e | 1 | 1 | 1½
Grains (oz eq) f | 8-9 (1) | 8-10 (1) | 10-12 (2)
Meats/Meat Alternates (oz eq) | 8-10 (1) | 9-10 (1) | 10-12 (2)
Fluid milk (cups) g | 5 (1) | 5 (1) | 5 (1)
Other Specifications: Daily Amount Based on the Average for a 5-Day Week
Min-max calories (kcal) h | 550-650 | 600-700 | 750-850
Saturated fat (% of total calories) h | <10 | <10 | <10
Sodium (mg) h i | ≤640 | ≤710 | ≤740
Trans fat h | Nutrition label or manufacturer specifications must indicate zero grams of trans fat per serving.
a Food items included in each group and subgroup and amount equivalents. Minimum creditable serving is ⅛ cup.
b One quarter-cup of dried fruit counts as ½ cup of fruit; 1 cup of leafy greens counts as ½ cup of vegetables. No more than half of the fruit or vegetable offerings may be in the form of juice. All juice must be 100% full-strength.
c Larger amounts of these vegetables may be served.
d This category consists of “Other vegetables” as defined in paragraph (c)(2)(iii)(E) of this section. For the purposes of the NSLP, the “Other vegetables” requirement may be met with any additional amounts from the dark green, red/orange, and beans/peas (legumes) vegetable subgroups as defined in paragraph (c)(2)(iii) of this section.
e Any vegetable subgroup may be offered to meet the total weekly vegetable requirement.
f All grains offered weekly must be whole grain-rich.
g All fluid milk must be low-fat (1 percent fat or less, unflavored) or fat-free (unflavored or flavored).
h The average daily calories for a 5-day school week menu must be within the range (at least the minimum and no more than the maximum values). Discretionary sources of calories (solid fats and added sugars) may be added to the meal pattern if within the specifications for calories, saturated fat, trans fat, and sodium. Foods of minimal nutritional value and fluid milk with fat content greater than 1 percent are not allowed.
i Final sodium targets (shown) must be met no later than July 1, 2022 (SY 2022-2023). The second intermediate target must be met no later than SY 2017-2018. See required intermediate specifications in § 210.10(f)(3).

* * * * *

(2) * * *

(iv) * * *

(B) Daily and weekly servings. The grains component is based on minimum daily servings plus total servings over a 5-day school week. Schools serving lunch 6 or 7 days per week must increase the weekly grains quantity by approximately 20 percent (⅕) for each additional day. When schools operate less than 5 days per week, they may decrease the weekly quantity by approximately 20 percent (⅕) for each day less than 5. The servings for biscuits, rolls, muffins, and other grain/bread varieties are specified in FNS guidance. All grains offered weekly must meet the whole grain-rich criteria specified in FNS guidance.

* * * * *

(d) * * *

(1) * * *

(i) Schools must offer students a variety (at least two different options) of fluid milk. All milk must be fat-free (skim) or low-fat (1 percent fat or less). Milk with higher fat content is not allowed. Fat-free fluid milk may be flavored or unflavored, and low-fat fluid milk must be unflavored. Low-fat or fat-free lactose-free and reduced-lactose fluid milk may also be offered.

* * * * *

(f) * * *

(3) Sodium. School lunches offered to each age/grade group must meet, on average over the school week, the levels of sodium specified in the following table within the established deadlines:

National school lunch program: Age/grade group | Sodium timeline & limits: Target 2: July 1, 2017 (SY 2017-2018) (mg) | Sodium timeline & limits: Final target: July 1, 2022 (SY 2022-2023) (mg)
K-5 | ≤935 | ≤640
6-8 | ≤1,035 | ≤710
9-12 | ≤1,080 | ≤740

* * * * *

§ 210.11 [Amended]

3. In § 210.11, paragraphs (m)(1)(ii), (m)(2)(ii), and (m)(3)(ii), are amended by removing the words “or flavored” each time they appear.

PART 215—SPECIAL MILK PROGRAM FOR CHILDREN

4. The authority citation for part 215 continues to read as follows:

Authority: 42 U.S.C. 1772 and 1779.

5. In § 215.7a, revise paragraph (a)(3) to read as follows:

§ 215.7a Fluid milk and non-dairy milk substitute requirements.

(a) * * *

(3) Children 6 years old and older. Children 6 years old and older must be served unflavored low-fat (1 percent fat or less), unflavored fat-free (skim), or flavored fat-free (skim) milk.

* * * * *

PART 220—SCHOOL BREAKFAST PROGRAM

6. The authority citation for part 220 continues to read as follows:

Authority: 42 U.S.C. 1773, 1779, unless otherwise noted.

7. In § 220.8, revise the table in paragraph (c) introductory text and paragraphs (c)(2)(iv)(B), (d), and (f)(3) to read as follows:

§ 220.8 Meal requirements for breakfasts.

* * * * *

(c) * * *

Food components | Breakfast meal pattern: Grades K-5 | Breakfast meal pattern: Grades 6-8 | Breakfast meal pattern: Grades 9-12
| Amount of food ᵃ per week (minimum per day)
Fruits (cups) ᵇ ᶜ | 5 (1) | 5 (1) | 5 (1)
Vegetables (cups) ᵇ ᶜ | 0 | 0 | 0
Dark green | 0 | 0 | 0
Red/Orange | 0 | 0 | 0
Beans and peas (legumes) | 0 | 0 | 0
Starchy | 0 | 0 | 0
Other | 0 | 0 | 0
Grains (oz. eq.) ᵈ | 7-10 (1) | 8-10 (1) | 9-10 (1)
Meats/Meat Alternates (oz eq) ᵉ | 0 | 0 | 0
Fluid milk (cups) ᶠ | 5 (1) | 5 (1) | 5 (1)
Other Specifications: Daily Amount Based on the Average for a 5-Day Week
Min-max calories (kcal) ᵍ ʰ | 350-500 | 400-550 | 450-600
Saturated fat (% of total calories) ʰ | <10 | <10 | <10
Sodium (mg) ʰ ⁱ | ≤430 | ≤470 | ≤500
Trans fat ʰ | Nutrition label or manufacturer specifications must indicate zero grams of trans fat per serving.
ᵃ Food items included in each group and subgroup and amount equivalents. Minimum creditable serving is ⅛ cup.
ᵇ One quarter cup of dried fruit counts as ½ cup of fruit; 1 cup of leafy greens counts as ½ cup of vegetables. No more than half of the fruit or vegetable offerings may be in the form of juice. All juice must be 100% full-strength.
ᶜ Schools must offer 1 cup of fruit daily and 5 cups of fruit weekly. Vegetables may be substituted for fruits, but the first two cups per week of any such substitution must be from the dark green, red/orange, beans and peas (legumes) or “Other vegetables” subgroups, as defined in § 210.10(c)(2)(iii) of this chapter.
ᵈ All grains offered weekly must be whole grain-rich as specified in FNS guidance. Schools may substitute 1 oz. eq. of meat/meat alternate for 1 oz. eq. of grains after the minimum daily grains requirement is met.
ᵉ There is no meat/meat alternate requirement.
ᶠ All fluid milk must be low-fat (1 percent fat or less, unflavored) or fat-free (unflavored or flavored).
ᵍ The average daily calories for a 5-day school week menu must be within the range (at least the minimum and no more than the maximum values).
ʰ Discretionary sources of calories (solid fats and added sugars) may be added to the meal pattern if within the specifications for calories, saturated fat, trans fat, and sodium. Foods of minimal nutritional value and fluid milk with fat content greater than 1 percent milk fat are not allowed.
ⁱ Final sodium targets (shown) must be met no later than July 1, 2022 (SY 2022-2023). The second intermediate target must be met no later than SY 2017-2018. See required intermediate specifications in § 220.8(f)(3).

* * * * *

(2) * * *

(iv) * * *

(B) Daily and weekly servings. The grains component is based on minimum daily servings plus total servings over a 5-day school week. Schools serving breakfast 6 or 7 days per week must increase the weekly grains quantity by approximately 20 percent (⅕) for each additional day. When schools operate less than 5 days per week, they may decrease the weekly quantity by approximately 20 percent (⅕) for each day less than 5. The servings for biscuits, rolls, muffins, and other grain/bread varieties are specified in FNS guidance. All grains offered weekly must meet the whole grain-rich criteria specified in FNS guidance.

* * * * *

(d) Fluid milk requirement. Breakfast must include a serving of fluid milk as a beverage or on cereal or used in part for each purpose. Schools must offer students a variety (at least two different options) of fluid milk. All fluid milk must be fat-free (skim) or low-fat (1 percent fat or less). Milk with higher fat content is not allowed. Fat-free fluid milk may be flavored or unflavored, and low-fat fluid milk must be unflavored. Low-fat or fat-free lactose-free and reduced-lactose fluid milk may also be offered. Schools must also comply with other applicable fluid milk requirements in § 210.10(d)(1) through (4) of this chapter.

* * * * *

(f) * * *

(3) Sodium. School breakfasts offered to each age/grade group must meet, on average over the school week, the levels of sodium specified in the following table within the established deadlines:

School breakfast program: Age/grade group | Sodium timeline & limits: Target 2: July 1, 2017 (SY 2017-2018) (mg) | Sodium timeline & limits: Final target: July 1, 2022 (SY 2022-2023) (mg)
K-5 | ≤485 | ≤430
6-8 | ≤535 | ≤470
9-12 | ≤570 | ≤500

* * * * *

PART 226—CHILD AND ADULT CARE FOOD PROGRAM

8. The authority citation for part 226 continues to read as follows:

Authority: Secs. 9, 11, 14, 16, and 17, Richard B. Russell National School Lunch Act, as amended (42 U.S.C. 1758, 1759a, 1762a, 1765 and 1766).

9. In § 226.20:

a. Revise paragraphs (a)(1)(iii) and (iv); and

b. Revise the tables to paragraphs (c)(1), (2), and (3).

The revisions read as follows:

§ 226.20 Requirements for meals.

(a) * * *

(1) * * *

(iii) Children 6 years old and older. Children 6 years old and older must be served unflavored low-fat (1 percent), unflavored fat-free (skim), or flavored fat-free (skim) milk.

(iv) Adults. Adults must be served unflavored low-fat (1 percent), unflavored fat-free (skim), or flavored fat-free (skim) milk. Six ounces (weight) or ¾ cup (volume) of yogurt may be used to fulfill the equivalent of 8 ounces of fluid milk once per day. Yogurt may be counted as either a fluid milk substitute or as a meat alternate, but not as both in the same meal.

* * * * *

(c) * * *

(1) * * *

Child and Adult Care Food Program
Breakfast
[Select the appropriate components for a reimbursable meal]
Food components and food items ¹ | Minimum quantities: Ages 1-2 | Minimum quantities: Ages 3-5 | Minimum quantities: Ages 6-12 | Minimum quantities: Ages 13-18 ² (at-risk afterschool programs and emergency shelters) | Minimum quantities: Adult participants
Fluid Milk ³ | 4 fluid ounces | 6 fluid ounces | 8 fluid ounces | 8 fluid ounces | 8 fluid ounces.
Vegetables, fruits, or portions of both ⁴ | ¼ cup | ½ cup | ½ cup | ½ cup | ½ cup.
Grains (oz. eq.) ⁵ ⁶ ⁷:
Whole grain-rich or enriched bread | ½ slice | ½ slice | 1 slice | 1 slice | 2 slices.
Whole grain-rich or enriched bread product, such as biscuit, roll, or muffin | ½ serving | ½ serving | 1 serving | 1 serving | 2 servings.
Whole grain-rich, enriched, or fortified cooked breakfast cereal,⁸ cereal grain, and/or pasta | ¼ cup | ¼ cup | ½ cup | ½ cup | 1 cup.
Whole grain-rich, enriched or fortified ready-to-eat breakfast cereal (dry, cold) ⁸
Flakes or rounds | ½ cup | ½ cup | 1 cup | 1 cup | 2 cups.
Puffed cereal | ¾ cup | ¾ cup | 1 ¼ cup | 1 ¼ cup | 2 ½ cup.
Granola | ⅛ cup | ⅛ cup | ¼ cup | ¼ cup | ½ cup.
Endnotes:
¹ Must serve all three components for a reimbursable meal. Offer versus serve is an option for at-risk afterschool participants.
² Larger portion sizes than specified may need to be served to children 13 through 18 years old to meet their nutritional needs.
³ Must be unflavored whole milk for children age one. Must be unflavored low-fat (1 percent fat or less) or unflavored fat-free (skim) milk for children two through five years old. Must be unflavored low-fat (1 percent fat or less), unflavored or flavored fat-free (skim) milk for children 6 years old and older and adults. For adult participants, 6 ounces (weight) or ¾ cup (volume) of yogurt may be used to meet the equivalent of 8 ounces of fluid milk once per day when yogurt is not served as a meat alternate in the same meal.
⁴ Pasteurized full-strength juice may only be used to meet the vegetable or fruit requirement at one meal, including snack, per day.
⁵ At least one serving per day, across all eating occasions, must be whole grain-rich. Grain-based desserts do not count towards meeting the grains requirement.
⁶ Meat and meat alternates may be used to meet the entire grains requirement a maximum of three times a week. One ounce of meat and meat alternates is equal to one ounce equivalent of grains.
⁷ Beginning October 1, 2021, ounce equivalents are used to determine the quantity of creditable grains.
⁸ Breakfast cereals must contain no more than 6 grams of sugar per dry ounce (no more than 21.2 grams sucrose and other sugars per 100 grams of dry cereal).

(2) * * *

Child and Adult Care Food Program
Lunch and Supper
[Select the appropriate components for a reimbursable meal]
Food components and food items ¹ | Minimum quantities: Ages 1-2 | Minimum quantities: Ages 3-5 | Minimum quantities: Ages 6-12 | Minimum quantities: Ages 13-18 ² (at-risk afterschool programs and emergency shelters) | Minimum quantities: Adult participants
Fluid Milk ³ | 4 fluid ounces | 6 fluid ounces | 8 fluid ounces | 8 fluid ounces | 8 fluid ounces. ⁴
Meat/meat alternates (edible portion as served):
Lean meat, poultry, or fish | 1 ounce | 1 ½ ounces | 2 ounces | 2 ounces | 2 ounces.
Tofu, soy products, or alternate protein products ⁵ | 1 ounce | 1 ½ ounces | 2 ounces | 2 ounces | 2 ounces.
Cheese | 1 ounce | 1 ½ ounces | 2 ounces | 2 ounces | 2 ounces.
Large egg | ½ | ¾ | 1 | 1 | 1.
Cooked dry beans or peas | ¼ cup | ⅜ cup | ½ cup | ½ cup | ½ cup.
Peanut butter or soy nut butter or other nut or seed butters | 2 Tbsp | 3 Tbsp | 4 Tbsp | 4 Tbsp | 4 Tbsp.
Yogurt, plain or flavored unsweetened or sweetened ⁶ | 4 ounces or ½ cup | 6 ounces or ¾ cup | 8 ounces or 1 cup | 8 ounces or 1 cup | 8 ounces or 1 cup.
The following may be used to meet no more than 50% of the requirement:
Peanuts, soy nuts, tree nuts, or seeds, as listed in program guidance, or an equivalent quantity of any combination of the above meat/meat alternates (1 ounce of nuts/seeds = 1 ounce of cooked lean meat, poultry, or fish) | ½ ounce = 50% | ¾ ounce = 50% | 1 ounce = 50% | 1 ounce = 50% | 1 ounce = 50%.
Vegetables ⁷ | ⅛ cup | ¼ cup | ½ cup | ½ cup | ½ cup.
Fruits ⁷ ⁸ | ⅛ cup | ¼ cup | ¼ cup | ¼ cup | ½ cup.
Grains (oz eq): ⁹ ¹⁰
Whole grain-rich or enriched bread | ½ slice | ½ slice | 1 slice | 1 slice | 2 slices.
Whole grain-rich or enriched bread product, such as biscuit, roll, or muffin | ½ serving | ½ serving | 1 serving | 1 serving | 2 servings.
Whole grain-rich, enriched, or fortified cooked breakfast cereal,¹¹ cereal grain, and/or pasta | ¼ cup | ¼ cup | ½ cup | ½ cup | 1 cup.
Endnotes:
¹ Must serve all five components for a reimbursable meal. Offer versus serve is an option for at-risk afterschool and adult participants.
² Larger portion sizes than specified may need to be served to children 13 through 18 years old to meet their nutritional needs.
³ Must be unflavored whole milk for children age one. Must be unflavored low-fat (1 percent fat or less) or unflavored fat-free (skim) milk for children two through five years old. Must be unflavored low-fat (1 percent fat or less) or unflavoredor flavored fat-free (skim) milk for children 6 years old and older and adults. For adult participants, 6 ounces (weight) or ¾ cup (volume) of yogurt may be used to meet the equivalent of 8 ounces of fluid milk once per day when yogurt is not served as a meat alternate in the same meal.
⁴ A serving of fluid milk is optional for suppers served to adult participants.
⁵ Alternate protein products must meet the requirements in Appendix A to Part 226 of this chapter.
⁶ Yogurt must contain no more than 23 grams of total sugars per 6 ounces.
⁷ Pasteurized full-strength juice may only be used to meet the vegetable or fruit requirement at one meal, including snack, per day.
⁸ A vegetable may be used to meet the entire fruit requirement. When two vegetables are served at lunch or supper, two different kinds of vegetables must be served.
⁹ At least one serving per day, across all eating occasions, must be whole grain-rich. Grain-based desserts do not count towards the grains requirement.
¹⁰ Beginning October 1, 2021, ounce equivalents are used to determine the quantity of the creditable grain.
¹¹ Breakfast cereals must contain no more than 6 grams of sugar per dry ounce (no more than 21.2 grams sucrose and other sugars per 100 grams of dry cereal).

(3) * * *

Child and Adult Care Food Program
Snack
[Select two of the five components for a reimbursable meal]
Food components and food items ¹ | Minimum quantities: Ages 1-2 | Minimum quantities: Ages 3-5 | Minimum quantities: Ages 6-12 | Minimum quantities: Ages 13-18 ² (at-risk afterschool programs and emergency shelters) | Minimum quantities: Adult participants
Fluid Milk ³ | 4 fluid ounces | 6 fluid ounces | 8 fluid ounces | 8 fluid ounces | 8 fluid ounces.
Meat/meat alternates (edible portion as served):
Lean meat, poultry, or fish | ½ ounce | ½ ounce | 1 ounce | 1 ounce | 1 ounce.
Tofu, soy products, or alternate protein products ⁴ | ½ ounce | ½ ounce | 1 ounce | 1 ounce | 1 ounce.
Cheese | ½ ounce | ½ ounce | 1 ounce | 1 ounce | 1 ounce.
Large egg | ½ | ½ | ½ | ½ | ½.
Cooked dry beans or peas | ⅛ cup | ⅛ cup | ¼ cup | ¼ cup | ¼ cup.
Peanut butter or soy nut butter or other nut or seed butters | 1 Tbsp | 1 Tbsp | 2 Tbsp | 2 Tbsp | 2 Tbsp.
Yogurt, plain or flavored unsweetened or sweetened ⁵ | 2 ounces or ¼ cup | 2 ounces or ¼ cup | 4 ounces or ½ cup | 4 ounces or ½ cup | 4 ounces or ½ cup.
Peanuts, soy nuts, tree nuts, or seeds | ½ ounce | ½ ounce | 1 ounce | 1 ounce | 1 ounce.
Vegetables ⁶ | ½ cup | ½ cup | ¾ cup | ¾ cup | ½ cup.
Fruits ⁶ | ½ cup | ½ cup | ¾ cup | ¾ cup | ½ cup.
Grains (oz. eq.): ⁷ ⁸
Whole grain-rich or enriched bread | ½ slice | ½ slice | 1 slice | 1 slice | 1 slice.
Whole grain-rich or enriched bread product, such as biscuit, roll, or muffin | ½ serving | ½ serving | 1 serving | 1 serving | 1 serving.
Whole grain-rich, enriched, or fortified cooked breakfast cereal,⁹ cereal grain, and/or pasta | ¼ cup | ¼ cup | ½ cup | ½ cup | ½ cup.
Whole grain-rich, enriched, or fortified ready-to-eat breakfast cereal (dry, cold) ⁹
Flakes or rounds | ½ cup | ½ cup | 1 cup | 1 cup | 1 cup.
Puffed cereal | ¾ cup | ¾ cup | 1 ¼ cup | 1 ¼ cup | 1 ¼ cup.
Granola | ⅛ cup | ⅛ cup | ¼ cup | ¼ cup | ¼ cup.
Endnotes:
¹ Select two of the five components for a reimbursable snack. Only one of the two components may be a beverage.
² Larger portion sizes than specified may need to be served to children 13 through 18 years old to meet their nutritional needs.
³ Must be unflavored whole milk for children age one. Must be unflavored low-fat (1 percent fat or less) or unflavored fat-free (skim) milk for children two through five years old. Must be unflavored low-fat (1 percent fat or less) or unflavored or flavored fat-free (skim) milk for children 6 years old and older and adults. For adult participants, 6 ounces (weight) or ¾ cup (volume) of yogurt may be used to meet the equivalent of 8 ounces of fluid milk once per day when yogurt is not served as a meat alternate in the same meal.
⁴ Alternate protein products must meet the requirements in Appendix A to part 226 of this chapter.
⁵ Yogurt must contain no more than 23 grams of total sugars per 6 ounces.
⁶ Pasteurized full-strength juice may only be used to meet the vegetable or fruit requirement at one meal, including snack, per day.
⁷ At least one serving per day, across all eating occasions, must be whole grain-rich. Grain-based desserts do not count towards the grains requirement.
⁸ Beginning October 1, 2021, ounce equivalents are used to determine the quantity of the creditable grains.
⁹ Breakfast cereals must contain no more than 6 grams of sugar per dry ounce (no more than 21.2 grams sucrose and other sugars per 100 grams of dry cereal).

* * * * *

Pamilyn Miller,
Administrator, Food and Nutrition Service.

[FR Doc. 2020-25760 Filed 11-23-20; 8:45 am]

BILLING CODE 3410-30-P